CONSUMER FINANCIAL PROTECTION BUREAU

12 CFR Part 1027

[Docket No. CFPB-2025-0002]

RIN 3170-AB23

Prohibited Terms and Conditions in Agreements for Consumer Financial Products or Services (Regulation AA); Withdrawal of Proposed Rule

AGENCY: Consumer Financial Protection Bureau.

ACTION: Proposed rule; withdrawal.

SUMMARY: The Consumer Financial Protection Bureau (Bureau or CFPB) is withdrawing its Notice of Proposed Rule: Prohibited Terms and Conditions in Agreements for Consumer Financial Products or Services (Regulation AA) (NPRM). The Bureau has determined that legislative rulemaking is not necessary or appropriate at this time to address the subject matter of the NPRM. The Bureau will not take any further action on the NPRM.

DATES: The notice of proposed rulemaking is withdrawn as of May 15, 2025.

ADDRESSES: The docket for this withdrawn proposed rule is available at https://www.regulations.gov/document/CFPB-2025-0002-0001.

FOR FURTHER INFORMATION CONTACT: George Karithanom, Regulatory Implementation and Guidance Program Analyst, Office of Regulations, at 202-435-7700 or https://reginquiries.consumerfinance.gov/. If you require this document in an alternative electronic format, please contact CFPB_Accessibility@cfpb.gov.

SUPPLEMENTARY INFORMATION: The Bureau is withdrawing the notice of proposed rulemaking, Prohibited Terms and Conditions in Agreements for Consumer Financial Products or Services (Regulation AA), published on January 14, 2025, 90 FR 3566. The proposed rule would have prohibited certain contractual provisions in agreements for consumer financial products or services.

The Bureau is withdrawing the proposed rule in light of changes in and updates to its policies, agenda, and objectives. The Bureau is re-evaluating the need for this proposed rule's prohibition on the use of certain contractual provisions that limit expression or purport to waive substantive consumer legal rights and protections, or their remedies, under State or Federal law. Specifically, as the NPRM acknowledges, this proposed rule is largely duplicative of the Federal Trade Commission's Credit Practices Rule. Given this duplication and the Bureau's policy of erring on the side of limiting regulatory burdens on the American people, the Bureau believes it is necessary to withdraw this NPRM.

In addition, the Bureau received comments warranting withdrawal and further consideration of the merits of the proposed rule, including arguments that the Bureau lacks authority to adopt the proposed rule. In light of these comments, the Bureau believes it necessary to withdraw the proposed rule pending further consideration of whether the Bureau has the authority to issue it.

Authority and Issuance

For each of these independently sufficient reasons, the Bureau is withdrawing the proposed rule titled, “Prohibited Terms and Conditions in Agreements for Consumer Financial Products or Services (Regulation AA),” published in the Federal Register on January 14, 2025.

Russell Vought,
Acting Director, Consumer Financial Protection Bureau.

[FR Doc. 2025-08645 Filed 5-14-25; 8:45 am]

BILLING CODE 4810-AM-P